ENVIRONMENTAL PROTECTION AGENCY

[FRL-11427-01-R9]

Notice of Availability of Preliminary Designation of Certain Stormwater Discharges Within Two Watersheds in Los Angeles County, California Under the National Pollutant Discharge Elimination System of the Clean Water Act

AGENCY: Environmental Protection Agency (EPA).

ACTION: Notice of availability.

SUMMARY: The Regional Administrator of the Environmental Protection Agency (EPA) Region 9 is providing notice of availability and soliciting comment on the preliminary designation of stormwater discharges from certain commercial, industrial, and institutional (CII) sites in two watersheds in Los Angeles County, California for regulation under the Clean Water Act (CWA) National Pollutant Discharge Elimination System (NPDES) permitting program. This action, if finalized by EPA, will regulate stormwater discharges that contribute to a water quality standard violation or that are a significant contributor of pollutants to waters of the United States. EPA intends to make a final decision after consideration of all comments submitted.

DATES: Written comments must be received on or before December 4, 2023.

ADDRESSES: Comments should be submitted via email to the following address: R9RPA@epa.gov and include “Comments on the 2023 Preliminary Designation” in the subject line. Documents and further instructions for submitting comments related to this preliminary designation are available for public inspection online at: https://www.epa.gov/npdes-permits/residual-designation-authority-address-stormwater-quality-problems-epas-pacific. If there are issues accessing the website, please contact EPA via the contact information below.

FOR FURTHER INFORMATION CONTACT: Eugene Bromley, EPA Region 9, Water Division, NPDES Permits Section; telephone (415) 972-3510; email address: bromley.eugene@epa.gov.

Administrative Record: The preliminary designation and other related documents in the administrative record are on file and may be inspected between 9 a.m. and 4 p.m., Monday through Friday, excluding legal holidays, at the following address: U.S. EPA Region 9, NPDES Permits Section, Water Division, 75 Hawthorne Street, San Francisco, CA 94105-3901.

SUPPLEMENTARY INFORMATION:

A. Does this action apply to me?

Entities potentially regulated by this action include a wide variety of privately owned CII facilities such as shopping centers, supermarkets, office complexes, hotels, warehouses, manufacturers, cargo and trucking terminals, schools, hospitals, and nursing homes. Entities potentially regulated by this action also include privately operated CII facilities at the Ports of Long Beach and Los Angeles. Entities affected by this action are located within either of two watersheds in Los Angeles County, in California: the Los Cerritos Channel/Alamitos Bay Watershed or the Dominquez Channel/Los Angeles/Long Beach Harbor Watershed. This description of affected activities is not intended to be exhaustive, but rather provides a guide for readers regarding entities likely to be affected by this action. This description of affected activities includes the types of entities that EPA is now aware could potentially be affected by this action. Other types of entities not included could also be affected. To determine whether your entity is affected by this action, you should also review the description of EPA's action in documents online at the website listed in the ADDRESSES section above. If you have questions regarding the applicability of this action to a particular entity, consult the person listed in the FOR FURTHER INFORMATION CONTACT section.

B. Summary of Preliminary Designation

CWA section 402(p)(2)(E) and (6) and EPA's implementing regulations at 40 CFR 122.26(a)(9)(i) authorize EPA to designate stormwater discharges for regulation under the NPDES permitting program. Those provisions authorize the Agency to regulate stormwater discharges that contribute to a water quality standard violation or that are a significant contributor of pollutants to waters of the United States, or where controls are needed based on wasteload allocations that are part of total maximum daily loads. This authority is often referred to as “residual designation authority” or RDA. EPA is providing notice of and soliciting comment on its preliminary designation for NPDES permitting of unregulated stormwater discharges from certain commercial, industrial and institutional (CII) facilities in the Los Cerritos Channel/Alamitos Bay and Dominquez Channel/Los Angeles/Long Beach Harbor Watersheds in Los Angeles County, including privately operated CII facilities at the Ports of Long Beach and Los Angeles. EPA is also taking comment on whether privately operated CII facilities at municipal airports located within the watersheds should be included.

This preliminary designation is in response to a 2018 District Court order in Los Angeles Waterkeeper v. Pruitt, as well as two September 15, 2015 petitions entitled “Petition For A Determination That Stormwater Discharges From Commercial, Industrial, And Institutional Sites Contribute To Water Quality Standards Violations in Dominguez Channel and the Los Angeles/Long Beach Inner Harbor (Los Angeles County, California) and Require Clean Water Act Permits,” and “Petition For A Determination That Stormwater Discharges From Commercial, Industrial, And Institutional Sites Contribute To Water Quality Standards Violations in the Alamitos Bay/Los Cerritos Watershed (Los Angeles County, California) And Require Clean Water Act Permits.”

C. How can I submit comments?

Submit comments by the deadline identified in this Federal Register notice. Information on how to submit comments and documents related to this preliminary designation are available for public inspection online at ADDRESSES above. If you need assistance in a language other than English or if you are a person with disabilities who needs a reasonable accommodation at no cost to you, please reach out by email or telephone to the FURTHER INFORMATION CONTACT listed above in this notice.

Once submitted, comments cannot be edited or removed from the administrative record. The EPA may publish any comment received as part of documentation (e.g., response to comments document) associated with its final decision. Do not submit in your comment any information you consider to be Confidential Business Information (CBI), Proprietary Business Information (PBI), or other information whose disclosure is restricted by statute. Multimedia submissions (audio, video, etc.) must be accompanied by a written comment. The written comment is considered the official comment and should include discussion of all points you wish to make. The EPA will generally not consider comments or comment contents located outside of the primary submission (i.e., on the web, cloud, or other file sharing system).

Dated: October 25, 2023.
Martha Guzman Aceves,
Regional Administrator, EPA Region 9.

[FR Doc. 2023-24249 Filed 11-1-23; 8:45 am]

BILLING CODE 6560-50-P